DEPARTMENT OF DEFENSE

Department of the Army; Corps of Engineers

Intent To Prepare a Draft Environmental Impact Statement for the Proposed Renourishment of the Brunswick County Beaches—Caswell Beach, Oak Island, and Holden Beach Portion, Brunswick County, NC

AGENCY: Department of the Army, U.S. Army Corps of Engineers, DoD.

ACTION: Notice of intent.

SUMMARY: Recent storms, in addition to natural coastal processes, have seriously eroded the oceanbront beaches of the Caswell Beach, Oak Island, and Holden Beach communities, located adjacent to the Atlantic Ocean, in Brunswick County, North Carolina. The proposed project will renourish the beach and dunes for approximately 11.8 miles of Caswell Beach and Oak Island, and 7.1 miles of Holden Beach, using beach compatible sand from one or more offshore borrow sources. Benefits that will accrue from the proposed beach renourishment include the protection of developed property from future storm and erosion damages, and the maintenance and enhancement of the Brunswick County Beaches tourism industry.

FOR FURTHER INFORMATION CONTACT: Questions about the proposed action and Draft Environmental Impact Statement (DEIS) can be answered by: Mr. Jeff Richter; Environmental Resources Branch; U.S. Army Engineer District, Wilmington; Post Office Box 1890; Wilmington, NC 28402-1890; telephone (910) 251-4636.

SUPPLEMENTARY INFORMATION: Project alternatives being considered include other methods of storm damage reduction and property protection, different project designs, various sand borrow sites, and no action. Hydraulic pipeline dredges are to be used to dredge and pump sand from the selected offshore borrow site(s) to the beach. As the discharge site moves along the beach away from the dredge, bulldozers move the sand and shape the new beach.

All private parties and Federal, State, and local agencies having an interest in the study are hereby notified of the intent to prepare a DEIS and are invited to comment at this time. Also, a scoping letter requesting input to the study was sent to all known interested parties on January 24, 2000. Based on comments received to date, a scoping meeting will not be needed. All comments received as a result of this notice of intent and the scoping letter will be considered in the preparation of the DEIS.

Significant issues to be analyzed in the DEIS include: (1) Dredging of benthic resources; (2) impact on primary nursery areas, anadromous fish, threatened and endangered sea turtles and piping plovers, and marine mammals; and (3) impacts to intertidal invertebrates, nektonic and benthic species, and other marine species occurring near the subject beaches.

The lead agency for this project is the U.S. Army Engineer District, Wilmington. Cooperating agency status has not been assigned to, nor requested by, any other agency.

The DEIS is being prepared in accordance with the requirements of the National Environmental Policy Act of 1969, as amended, and will address the relationship of the proposed action to all other applicable Federal and State Laws and Executive Orders.

The DEIS is currently scheduled to be available in July 2004.

Dated: August 8, 2003.
Charles R. Alexander, Jr.,
Colonel, U.S. Army, District Engineer.

[FR Doc. 03-21792 Filed 8-25-03; 8:45 am]

BILLING CODE 3710-CE-M